DEPARTMENT OF VETERANS AFFAIRS

38 CFR Part 17

RIN 2900-AL60

Sensori-Neural Aids

AGENCY: Department of Veterans Affairs.

ACTION: Final rule.

SUMMARY: This final rule amends Department of Veterans Affairs (VA) medical regulations concerning sensori-neural aids. An existing regulation authorizes VA to provide sensori-neural aids (i.e., eyeglasses, contact lenses, hearing aids) to seven specific groups of veterans identified in the regulation. The first four groups consist of veterans with the highest priority for care under VA's enrollment system, generally those with compensable service-connected disabilities, former prisoners of war, and those receiving increased VA pension based on their being housebound or in need of regular aid and attendance. Since this rule was first published, Congress changed the law to provide that veterans awarded the Purple Heart should have priority equal to former prisoners of war under VA's enrollment system. The intended effect of this final rule is to amend the regulation to allow veterans in receipt of a Purple Heart to receive sensori-neural aids.

DATES: Effective Date: July 16, 2004.

FOR FURTHER INFORMATION CONTACT: Frederick Downs, Jr., Chief Consultant, Prosthetics and Sensory Aids Service Strategic Healthcare Group (113), Department of Veterans Affairs, 810 Vermont Avenue, NW., Washington, DC 20420, (202) 273-8515. (This is not a toll-free number.)

SUPPLEMENTARY INFORMATION: In a document published in the Federal Register on July 31, 2003 (68 FR 44913) VA published a proposed rule amending VA's medical regulations at 38 CFR Part 17 to allow veterans in receipt of a Purple Heart to receive sensori-neural aids. VA provided a 60-day comment period that ended on September 29, 2003. VA received one comment, in which the commenter expressed support for the amended regulation. No changes are made based on this comment.

Based on the rationale set forth in the proposed rule and this document, VA is adopting the provisions of the proposed rule as a final rule without change. The authority for the rule has been revised because Congress changed the authority for the regulation.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This final rule would have no such effect on State, local, or tribal governments, or the private sector.

Paperwork Reduction Act

This document contains no provisions constituting a collection of information under the Paperwork Reduction Act (44 U.S.C. 3501-3521).

Regulatory Flexibility Act

The Secretary of Veterans Affairs (VA) hereby certifies that this regulatory amendment will not have a significant economic impact on a substantial number of small entities as they are defined in the Regulatory Flexibility Act, 5 U.S.C. 601-612. This amendment will affect only veterans receiving certain VA benefits and does not affect any small entities. Therefore, pursuant to 5 U.S.C. 605(b), this amendment is exempt from the initial and final regulatory flexibility analysis requirements of sections 603 and 604.

Catalog of Federal Domestic Assistance Numbers

The Catalog of Federal Domestic Assistance numbers for the programs affected by this document are 64.005, 64.007, 64.008, 64.009, 64.010, 64.011, 64.012, 64.013, 64.014, 64.015, 64.016, 64.018, 64.019, 64.022, and 64.025.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: May 3, 2004.
Anthony J. Principi,
Secretary of Veterans Affairs.

For the reasons set out in the preamble, 38 CFR part 17 is amended as set forth below:

PART 17—MEDICAL

1. The authority citation for part 17 continues to read as follows:

Authority: 38 U.S.C. 501, 1721, unless otherwise noted.

2. Section 17.149 is amended by:

a. Redesignating paragraphs (b)(3) through (b)(7) as paragraphs (b)(4) through (b)(8), respectively; and

b. Adding a new paragraph (b)(3).

c. Revising the authority citation at the end of the section.

The addition and revision read as follows:

§ 17.149 Sensori-neural aids.

* * * * *

(b) * * *

(3) Those awarded a Purple Heart;

* * * * *

(Authority: 38 U.S.C. 501, 1707(b))

[FR Doc. 04-13592 Filed 6-15-04; 8:45 am]

BILLING CODE 8320-01-P